OVERSEAS PRIVATE INVESTMENT CORPORATION

Submission of OMB Review; Comments Request

AGENCY: Overseas Private Investment Corporation (OPIC).

ACTION: Request for comments.

SUMMARY: Under the provisions of the Paperwork Reduction Act (44 U.S.C. chapter 35), agencies are required to publish a Notice in the Federal Register notifying the public that the Agency has prepared an information collection request for OMB review and approval and has requested public review and comment on the submission. Comments are being solicited on the need for the information; the accuracy of the Agency's burden estimate; the quality, practical utility and clarity of the information to be collected; and ways to minimize the reporting burden, including automated collection techniques and uses of other forms of technology. The proposed form under review, OPIC form-162, is summarized below, OMB-3420-0019.

DATES: Comments must be received by May 27, 2011.

ADDRESSES: Copies of the subject form and the request for review prepared for submission to OMB may be obtained from the Agency Submitting Officer. Comments on the form should be submitted to the Agency Submitting Officer.

FOR FURTHER INFORMATION CONTACT: Agency Submitting Officer: Essie Bryant, Records Management Officer, Overseas Private Investment Corporation, 1100 New York Avenue, NW., Washington, DC 20527; (202) 336-8563.

Summary of Form Under Review

Type of Request: Revised Form.

Title: Application for Political Risk Insurance.

Form Number: OPIC-162.

Frequency of Use: Once per respondent.

Type of Respondents: Business or other institution (except farms); individuals.

Description of Affected Public: U.S. companies or citizens investing overseas.

Reporting Hours: 6.5 hours per project.

Number of Responses: 350 per year.

Federal Cost: $35,000.

Authority for Information Collection: Section 231 and 234(b) and (c) of the Foreign Assistance Act of 1961, as amended.

Abstract (Needs and Uses): The OPIC form-162 is completed by the OPIC-assisted investors annually. The questionnaire allows OPIC to assess the effects of OPIC-assisted projects on the U. S. economy and employment, as well as on the environment and economic development abroad.

Dated: March 18, 2011.
Nichole Cadiente,
Administrative Counsel, Department of Legal Affairs.

[FR Doc. 2011-6923 Filed 3-25-11; 8:45 am]

BILLING CODE M